DEPARTMENT OF ENERGY

Federal Energy Regulatory Commission

[Docket No. RT01-2-002, et al.]

PJM Interconnection, L.L.C., et al.; Electric Rate and Corporate Regulation Filings

September 17, 2001.

Take notice that the following filings have been made with the Commission:

1. PJM Interconnection, L.L.C.

[Docket No. RT01-2-002]

Take notice that on September 10, 2001, PJM Interconnection, L.L.C. (PJM) tendered for filing with the Federal Energy Regulatory Commission (Commission), proposed amendments to the PJM Open Access Transmission Tariff, to the Amended and Restated Operating Agreement of PJM Interconnection, L.L.C., and to the Reliability Assurance Agreement Among Load Serving Entities in the PJM Control Area. PJM states that the proposed amendments are submitted to comply with the Commission's order in this proceeding dated July 12, 2001.

Copies of this filing have been served on all parties, as well as on all PJM Members and the state electric regulatory commissions in the PJM control area.

Comment date: October 1, 2001, in accordance with Standard Paragraph E at the end of this notice.

2. Maclaren Energy, Inc.

[Docket No. ER01-2104-002]

Take notice that on September 12, 2001, Maclaren Energy, Inc. submitted for filing with the Federal Energy Regulatory Commission (Commission) revised Rate Schedule FERC No. 1, under its FERC Electric Tariff Volume No.1 in compliance with the Commission's Order of August 27, 2001.

Comment date: October 3, 2001, in accordance with Standard Paragraph E at the end of this notice.

3. Cinergy Services, Inc.

[Docket No. ER01-2910-001]

Take notice that on September 4, 2001, Cinergy Services, Inc. tendered for filing with the Federal Energy Regulatory Commission, (Commission) a Notice of Name Change from First Energy Trading & Marketing Inc. to First Energy Services Corp.

Cinergy requests that the Commission make the requested tariff changes effective as of the date of the Notice of Name Change, January 1, 2001.

Comment date: September 25, 2001, in accordance with Standard Paragraph E at the end of this notice.

4. Virginia Electric and Power Company

[Docket No. ER01-2989-001]

Take notice that on September 12, 2001, Virginia Electric and Power Company (Dominion Virginia Power) tendered for filing two revised pages to the Cost Support for the Monthly Facility Charge attached to the executed Generator Interconnection and Operating Agreement (Interconnection Agreement) between Dominion Virginia Power and Industrial Power Generating Corporation (Ingenco) filed in the above referenced docket on August 31, 2001. The revised pages are being submitted to correct a clerical error.

Dominion Virginia Power respectfully requests that the Commission accept this filing to allow the Interconnection Agreement to become effective as of August 24, 2001, the date requested in its August 31, 2001 filing.

Copies are being served upon Industrial Power Generating Corporation and the Virginia State Corporation Commission.

Comment date: October 3, 2001, in accordance with Standard Paragraph E at the end of this notice.

5. American Electric Power Service Corporation

[Docket No. ER01-3033-000]

Take notice that on September 11, 2001, the American Electric Power Service Corporation (AEPSC), tendered for filing executed Firm and Non-Firm Point-to-Point Transmission (PTP) Service Agreements for Split Rock Energy LLC and a Firm PTP Service Agreement for PSEG Energy Resources & Trade LLC. AEPSC also filed Network Integration Transmission Service (NTS) Agreements for energy suppliers in retail supplier choice programs, i.e., AES NewEnergy, Inc. and MidAmerican Energy Company (MECR), and NTS Agreement Supplements for Wabash Valley Power Association, Inc. (WVPA), and for American Electric Power Service Corporation—Wholesale Power Merchant Organization (AEPM). All of these agreements are pursuant to the AEP Companies' Open Access Transmission Service Tariff (OATT) that has been designated as the Operating Companies of the American Electric Power System FERC Electric Tariff Second Revised Volume No. 6.

AEPSC requests waiver of notice to permit the NTS Service Agreement Supplement for WVPA to be made effective for service billed on and after May 16, 2001, and the NTS Service Agreement Supplement for AEPM to be made effective for service billed on and after August 1, 2001. An effective date of September 1, 2001 is requested for all other agreements filed herewith.

AEPSC also requests termination on August 8, 2001, of firm and non-firm service agreements executed April 1, 1998, by El Paso Merchant Energy, L.P., formerly Engage Energy US, L.P., under AEP Companies' FERC Electric Tariff Original Volume No. 4.

A copy of the filing was served upon the Parties and the state utility regulatory commissions of Arkansas, Indiana, Kentucky, Louisiana, Michigan, Ohio, Oklahoma, Tennessee, Texas, Virginia and West Virginia.

Comment date: October 2, 2001, in accordance with Standard Paragraph E at the end of this notice.

6. Kentucky Utilities Company

[Docket No. ER01-3040-000]

Take notice that on September 11, 2001, Kentucky Utilities Company (KU) tendered for filing with the Federal Energy Regulatory Commission (Commission) an executed Amendment to the interconnection agreement between KU and East Kentucky Power Cooperative, Inc. (EKPC). The amendment provides for a contract modification to add an area of load entitled North Madison load area on KU's Fawkes-Higby Mill 69 kV transmission line. The amendment requires EKPC to reimburse KU for all costs associated with the construction of the tap structure. This amendment is Number 13.

Comment date: October 2, 2001, in accordance with Standard Paragraph E at the end of this notice.

7. Kentucky Utilities Company

[Docket No. ER01-3041-000]

Take notice that on September 11, 2001, Kentucky Utilities Company (KU) tendered for filing with the Federal Energy Regulatory Commission (Commission) an executed Amendment to the interconnection agreement between (KU) and East Kentucky Power Cooperative, Inc. (EKPC). The amendment provides for a contract modification to add an area of load entitled North Floyd load area on KU's Somerset North-Lancaster 69 kV transmission line. The amendment required EKPC to reimburse KU for all costs associated with the construction of the tap structure. This amendment is Number 17.

Comment date: October 2, 2001, in accordance with Standard Paragraph E at the end of this notice.

8. Kentucky Utilities Company

[Docket No. ER01-3042-000]

Take notice that on September 11, 2001, Kentucky Utilities Company (KU) tendered for filing with the Federal Energy Regulatory Commission (Commission) an executed Amendment to the interconnection agreement between (KU) and East Kentucky Power Cooperative, Inc. (EKPC). The amendment provides for an addition of a free flowing interconnection point at the EKPC Baker Lane substation. The interconnection will be on KU's Brown North-Higby Mill 138/69 69 kV transmission line. The amendment requires EKPC to reimburse KU for all costs associated with the construction of the tap structure. This amendment is Number 14.

Comment date: October 2, 2001, in accordance with Standard Paragraph E at the end of this notice.

9. Kentucky Utilities Company

[Docket No. ER01-3043-000]

Take notice that on September 11, 2001, Kentucky Utilities Company (KU) tendered for filing with the Federal Energy Regulatory Commission (Commission) an executed Amendment to the interconnection agreement between (KU) and East Kentucky Power Cooperative, Inc. (EKPC). The amendment provides for the right of each party, in an emergency, to operate and repair the other party's facilities that affect load areas. It also provides for the right to inspect the other party's facilities that affect service to load areas. This amendment is Number 16.

Comment date: October 2, 2001, in accordance with Standard Paragraph E at the end of this notice.

10. Kentucky Utilities Company

[Docket No. ER01-3044-000]

Take notice that on September 11, 2001, Kentucky Utilities Company (KU) tendered for filing with the Federal Energy Regulatory Commission (Commission) an executed Amendment to the interconnection agreement between (KU) and East Kentucky Power Cooperative, Inc. (EKPC). The amendment provides for an addition of a free flowing interconnection point at the EKPC Lake Reba Tap substation. The interconnection will be on KU's Lake Reba Tap substation. The amendment requires EKPC to reimburse KU for all costs associated with the construction of the tap structure. This amendment is Number 15.

Comment date: October 2, 2001, in accordance with Standard Paragraph E at the end of this notice.

11. Mid-Continent Area Power Pool

[Docket No. ER01-3045-000]

Take notice that on September 12, 2001, the Mid-Continent Area Power Pool (MAPP), filed with the Federal Energy Regulatory Commission (Commission), pursuant to Section 205 of the Federal Power Act, 16 U.S.C. 824d, and part 35 of the Commission's regulations, 18 CFR part 35, the Mid-Continent Area Power Pool Power and Energy Market Rate Tariff (Exhibit E to MAPP's FERC Electric Tariff, Original Volume No. 2). The Power and Energy Market Rate Tariff, modeled largely on the Master Purchase and Sale Agreement developed by the Edison Electric Institute and the National Energy Marketers Association, permits members of MAPP with market-based rate authority to engage in sales for resale of electric energy at negotiated rates.

Comment date: October 3, 2001, in accordance with Standard Paragraph E at the end of this notice.

12. Entergy Services, Inc.

[Docket No. ER01-3046-000]

Take notice that on September 12, 2001, Entergy Services, Inc., on behalf of Entergy Arkansas, Inc., Entergy Gulf States, Inc., Entergy Louisiana, Inc., Entergy Mississippi, Inc., and Entergy New Orleans, Inc., (collectively, the Entergy Operating Companies) tendered for filing with the Federal Energy Regulatory Commission (Commission) a Non-Firm Point-To-Point Transmission Service Agreement and a Short-Term Firm Point-To-Point Transmission Service Agreement both between Entergy Services, Inc., as agent for the Entergy Operating Companies, and Williams Energy Marketing & Trading Company.

Comment date: October 3, 2001, in accordance with Standard Paragraph E at the end of this notice.

13. California Independent System Operator Corporation

[Docket No. ER01-3047-000]

Take notice that on September 12, 2001, the California Independent System Operator Corporation (ISO) tendered for filing with the Federal Energy Regulatory Commission (Commission) the ISO's Summer 2001 Demand Relief Program.

The ISO requests that the program be made effective as of June 1, 2001, the beginning date for the Summer 2001 Demand Relief Program. The ISO also submitted, for informational purposes, Summer 2001 Demand Relief Agreements and revisions to some of those Demand Relief Agreements.

The ISO states that this filing has been served upon the California Public Utilities Commission, the California Energy Commission, the California Electricity Oversight Board, all parties with effective Scheduling Coordinator Service Agreements under the ISO Tariff, and parties with which the ISO has agreed to Summer 2001 Demand Relief Agreements.

Comment date: October 3, 2001, in accordance with Standard Paragraph E at the end of this notice.

14. Deseret Generation & Transmission Co-operative, Inc.

[Docket No. ER01-3049-000]

Take notice that on September 12, 2001, Deseret Generation & Transmission Co-operative, Inc. submitted an informational filing, providing the exact amount paid as a 2000 Rate Rebate to each of its six member cooperatives under Service Agreement Nos. 1 through 6 of FERC Electric Tariff, Original Volume No. 1.

Comment date: October 3, 2001, in accordance with Standard Paragraph E at the end of this notice.

15. PJM Interconnection, L.L.C.

[Docket No. ER01-3050-000]

Take notice that on September 13, 2001, PJM Interconnection, L.L.C. (PJM) tendered for filing a request to amend the Amended and Restated Operating Agreement of PJM Interconnection, L.L.C. (Operating Agreement) to authorize holding the election to fill the two seats on PJM's Board of Managers (PJM Board) for which an election is required at the meeting of the PJM Members Committee on August 30, 2001, rather than at PJM's 2001 Annual Meeting. PJM states that, after the Commission, by order dated April 11, 2001, in Docket No. ER01-1286-000, rejected a proposed amendment to the Operating Agreement that would have eliminated the requirement to involve an independent consultant in the process of placing before the members at the Annual Meeting a slate of candidates for seats available on the PJM Board in 2001, it was unable to hold the election for the available Board seats at the 2001 Annual Meeting on April 26, 2001. PJM further states that the PJM Members Committee unanimously approved the amendment proposed in this filing. PJM requests that its filing become effective on August 30, 2001.

Copies of this filing were served upon all PJM members and all electric utility regulatory commissions in the PJM control area.

Comment date: October 4, 2001, in accordance with Standard Paragraph E at the end of this notice.

Standard Paragraph:

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-23810 Filed 9-21-01; 8:45 am]

BILLING CODE 6717-01-P